DEPARTMENT OF HEALTH AND HUMAN SERVICES

Announcement of the Annual Meeting of the President's Council on Sports, Fitness & Nutrition

AGENCY: Department of Health and Human Services (HHS), Office of the Assistant Secretary for Health (OASH), Office of Disease Prevention and Health Promotion (ODPHP)

ACTION: Notice.

SUMMARY: As stipulated by the Federal Advisory Committee Act, the U.S. Department of Health and Human Services (HHS) is giving notice that the President's Council on Sports, Fitness & Nutrition (PCSFN) will hold its annual meeting. The meeting will be open to the public.

DATES: The PCSFN annual meeting will be held on September 6, 2024, from 1:30 p.m. to 4:00 p.m. ET.

ADDRESSES: The meeting will be held at the Hubert H. Humphrey Building, 200 Independence Ave. SW, Washington, DC 20001 and accessible online via livestream and recorded for later viewing. Registrants will receive information on how to access it before the meeting.

FOR FURTHER INFORMATION CONTACT: Designated Federal Officer for the PCSFN, Rachel Fisher, MS, MPH, RD; Office of Disease Prevention and Health Promotion, 1101 Wootton Parkway, Suite 420S, Rockville, MD 20852; Phone 240-453-8257; Email fitness@hhs.gov. Additional information is at https://health.gov/our-work/nutrition-physical-activity/presidents-council.

SUPPLEMENTARY INFORMATION:

Authority and Purpose: The primary functions of the PCSFN include: (1) Advising the President, through the Secretary, concerning the progress made in carrying out the provisions of Executive Order 13265, as amended by Executive Order 14048, and recommending to the President, through the Secretary, actions to accelerate such progress; (2) recommending to the Secretary, actions to expand opportunities at the national, state, and local levels for participation in sports and engagement in physical fitness and activity (taking into account the HHS Physical Activity Guidelines for Americans, including consideration for youth with disabilities); and (3) functioning as liaisons and spokespersons on behalf of the PCSFN to relevant State, local, and private entities, and sharing information about the work of the PCSFN in order to advise the Secretary regarding opportunities to extend and improve physical activity, fitness, sports, and nutrition programs and services at the State, local, and national levels.

Purpose of the Meeting: At the September 2024 meeting, the PCSFN will share highlights from the previous year, present the 2024 PCSFN Awards, and discuss priorities for the future. In February 2024, the White House announced a historic partnership between the PCSFN and every major sports league and players association. A panel of representatives from the professional sports partners will discuss activities related to the partnership.

Meeting Agendas: The meeting agenda is in development and will be posted at https://health.gov/our-work/nutrition-physical-activity/presidents-council/council-meetings when finalized.

Meeting Registration: The meeting is open to the public and the media. Members of the public who wish to attend the meeting are asked to pre-register. Registration information can be found at https://health.gov/pcsfn/council-meetings. HHS will also stream the meeting online via HHS.gov/live. Registration for in-person public attendance must be completed before 5:00 p.m. (ET) on Friday, August 23, 2024. To request a sign language interpreter or other special accommodations, please indicate this when registering online or by notifying fitness@hhs.gov, no later than 5:00 p.m. (ET) on Friday, August 23, 2023.

Paul Reed,
Office of Disease Prevention and Health Promotion, Deputy Assistant Secretary for Health.

[FR Doc. 2024-18783 Filed 8-21-24; 8:45 am]

BILLING CODE 4150-32-P